NATIONAL AERONAUTICS AND SPACE ADMINISTRATION

[Notice 01-072]

Government-Owned Inventions, Available for Licensing

AGENCY: National Aeronautics and Space Administration.

ACTION: Notice of availability of inventions for licensing.

SUMMARY: The inventions listed below are assigned to the National Aeronautics and Space Administration, have been filed in the United States Patent and Trademark Office, and are available for licensing.

DATES: June 14, 2001.

FOR FURTHER INFORMATION CONTACT: John Kusmiss, Patent Counsel, NASA Management Office-JPL, 4800 Oak Grove Drive, Mail Stop 180-801, Pasadena, CA 91109; telephone (818) 354-7770.

NASA Case No. NPO-21015-1: High Capacity Electrode Materials for Thin Film Batteries Compatible With Integrated Circuit Manufacturing.

Dated: June 4, 2001.
Edward A. Frankle,
General Counsel.

[FR Doc. 01-15015 Filed 6-13-01; 8:45 am]

BILLING CODE 7510-01-P